DEPARTMENT OF ENERGY

Federal Energy Regulatory Commission

Combined Notice of Filings #2

Take notice that the Commission received the following electric corporate filings:

Docket Numbers: EC16-70-000.

Applicants: Portsmouth Genco, LLC, Virginia Renewable Power—Portsmouth, LLC.

Description: Supplement to February 12, 2016 Application for Authorization for Disposition of Jurisdictional Facilities of Portsmouth Genco, LLC, et al.

Filed Date: 3/16/16.

Accession Number: 20160316-5133.

Comments Due: 5 p.m. ET 3/28/16.

Docket Numbers: EC16-84-000.

Applicants: Kingbird Solar A, LLC, Kingbird Solar B, LLC.

Description: Supplement to March 1, 2016 Application for Authorization Under Section 203 of the Federal Power Act of Kingbird Solar A, LLC, et al.

Filed Date: 3/16/16.

Accession Number: 20160316-5135.

Comments Due: 5 p.m. ET 3/28/16.

Docket Numbers: EC16-87-000.

Applicants: Judith Gap Energy LLC, Spring Canyon Energy LLC, Wolverine Creek Energy LLC, Wolverine Creek Goshen Interconnection LLC.

Description: Application for Authorization under Section 203 of the Federal Power Act and Request for Waivers and Expedited Action of Judith Gap Energy LLC, et al.

Filed Date: 3/16/16.

Accession Number: 20160316-5063.

Comments Due: 5 p.m. ET 4/6/16.

Take notice that the Commission received the following exempt wholesale generator filings:

Docket Numbers: EG16-74-000.

Applicants: Ninnescah Wind Energy, LLC.

Description: Notice of Self-Certification of Exempt Wholesale Generator Status of Ninnescah Wind Energy, LLC.

Filed Date: 3/15/16.

Accession Number: 20160315-5140.

Comments Due: 5 p.m. ET 4/5/16.

Take notice that the Commission received the following electric rate filings:

Docket Numbers: ER14-474-006.

Applicants: Sempra Generation, LLC.

Description: Notice of Non-Material Change in Status of Sempra Generation, LLC.

Filed Date: 3/15/16.

Accession Number: 20160315-5159.

Comments Due: 5 p.m. ET 4/5/16.

Docket Numbers: ER15-1905-003.

Applicants: Amazon Energy, LLC.

Description: Compliance filing: Amazon Energy, LLC Tariff Amendment to be effective 3/16/2016.

Filed Date: 3/15/16.

Accession Number: 20160315-5000.

Comments Due: 5 p.m. ET 4/5/16.

Docket Numbers: ER16-207-002.

Applicants: Dynegy Oakland, LLC.

Description: Tariff Amendment: Settlement Agreement and Request for Expedited Treatment to be effective 1/1/2016.

Filed Date: 3/14/16.

Accession Number: 20160314-5227.

Comments Due: 5 p.m. ET 4/4/16.

Docket Numbers: ER16-895-001.

Applicants: RDAF Energy Solutions, LLC.

Description: Tariff Amendment: Amendment of RDAF Baseline Filing For MBR Authority and Granting Waivers to be effective 3/15/2016.

Filed Date: 3/15/16.

Accession Number: 20160315-5073.

Comments Due: 5 p.m. ET 4/5/16.

Docket Numbers: ER16-904-001.

Applicants: Smith Creek Hydro, LLC.

Description: Amendment to February 5, 2016 and March 4, 2016 Smith Creek Hydro, LLC tariff filings.

Filed Date: 3/16/16.

Accession Number: 20160316-5076.

Comments Due: 5 p.m. ET 3/23/16.

Docket Numbers: ER16-1129-001.

Applicants: VPI Enterprises, Inc.

Description: Tariff Amendment: Supplement to Application for Order Accepting Initial Market-Based Rate Tariff to be effective 3/11/2016.

Filed Date: 3/16/16.

Accession Number: 20160316-5098.

Comments Due: 5 p.m. ET 4/6/16.

Docket Numbers: ER16-1130-001.

Applicants: DifWind Farms Limited I.

Description: Tariff Amendment: Supplement to Application for Order Accepting Initial Market-Based Rate Tariff to be effective 3/11/2016.

Filed Date: 3/16/16.

Accession Number: 20160316-5097.

Comments Due: 5 p.m. ET 4/6/16.

Docket Numbers: ER16-1131-001.

Applicants: DifWind Farms Limited II.

Description: Tariff Amendment: Supplement to Application for Order Accepting Initial Market-Based Rate Tariff to be effective 3/11/2016.

Filed Date: 3/16/16.

Accession Number: 20160316-5096.

Comments Due: 5 p.m. ET 4/6/16.

Docket Numbers: ER16-1132-001.

Applicants: DifWind Farms Limited V.

Description: Tariff Amendment: Supplement to Application for Order Accepting Initial Market-Based Rate Tariff to be effective 3/11/2016.

Filed Date: 3/16/16.

Accession Number: 20160316-5094.

Comments Due: 5 p.m. ET 4/6/16.

Docket Numbers: ER16-1189-000.

Applicants: RE Mustang 3 LLC.

Description: § 205(d) Rate Filing: RE Mustang 3 LLC Certificate of Concurrence for LGIA Co-Tenancy Agreement to be effective 4/26/2016.

Filed Date: 3/15/16.

Accession Number: 20160315-5116.

Comments Due: 5 p.m. ET 4/5/16.

Docket Numbers: ER16-1190-000.

Applicants: RE Mustang 3 LLC.

Description: § 205(d) Rate Filing: RE Mustang 3 LLC Certificate of Concurrence for Shared Facilities Agreement to be effective 4/26/2016.

Filed Date: 3/15/16.

Accession Number: 20160315-5117.

Comments Due: 5 p.m. ET 4/5/16.

Docket Numbers: ER16-1191-000.

Applicants: RE Mustang 4 LLC.

Description: § 205(d) Rate Filing: RE Mustang 4 LLC Certificate of Concurrence for LGIA Co-Tenancy Agreement to be effective 4/26/2016.

Filed Date: 3/15/16.

Accession Number: 20160315-5118.

Comments Due: 5 p.m. ET 4/5/16.

Docket Numbers: ER16-1192-000.

Applicants: RE Mustang 4 LLC.

Description: § 205(d) Rate Filing: RE Mustang 4 LLC Certificate of Concurrence for Shared Facilities Agreement to be effective 4/26/2016.

Filed Date: 3/15/16.

Accession Number: 20160315-5119.

Comments Due: 5 p.m. ET 4/5/16.

Docket Numbers: ER16-1193-000.

Applicants: Western Antelope Blue Sky Ranch A LLC.

Description: § 205(d) Rate Filing: Western Antelope Blue Sky Ranch A LLC Amended SFA to be effective 3/17/2016.

Filed Date: 3/16/16.

Accession Number: 20160316-5000.

Comments Due: 5 p.m. ET 4/6/16.

Docket Numbers: ER16-1194-000.

Applicants: Sierra Solar Greenworks LLC.

Description: § 205(d) Rate Filing: Sierra Solar Greenworks LLC SFA to be effective 3/17/2016.

Filed Date: 3/16/16.

Accession Number: 20160316-5001.

Comments Due: 5 p.m. ET 4/6/16.

Docket Numbers: ER16-1195-000.

Applicants: Central Antelope Dry Ranch C LLC.

Description: Baseline eTariff Filing: Central Antelope Dry Ranch C LLC SFA to be effective 3/17/2016.

Filed Date: 3/16/16.

Accession Number: 20160316-5002.

Docket Numbers: ER16-1201-000.

Applicants: Southwest Power Pool, Inc.

Description: § 205(d) Rate Filing: 3179 Transource Missouri & OPPD Interconnection Agreement to be effective 2/18/2016.

Filed Date: 3/16/16.

Accession Number: 20160316-5100.

Comments Due: 5 p.m. ET 4/6/16.

Docket Numbers: ER16-1202-000.

Applicants: The Energy Group of America, Inc.

Description: Baseline eTariff Filing: MBR Application to be effective 5/15/2016.

Filed Date: 3/16/16.

Accession Number: 20160316-5102.

Comments Due: 5 p.m. ET 4/6/16.

Docket Numbers: ER16-1203-000.

Applicants: RE Astoria LLC.

Description: § 205(d) Rate Filing: Astoria-Willow Springs Shared Facilities Agreement to be effective 3/27/2016.

Filed Date: 3/16/16.

Accession Number: 20160316-5138.

Comments Due: 5 p.m. ET 4/6/16.

Docket Numbers: ER16-1204-000.

Applicants: Wisconsin Public Service Corporation.

Description: § 205(d) Rate Filing: Wisconsin Public Service Corporation's Annual PEB/PBOP Filing to be effective 4/1/2016.

Filed Date: 3/16/16.

Accession Number: 20160316-5142.

Comments Due: 5 p.m. ET 4/6/16.

Docket Numbers: ER16-1205-000.

Applicants: AEP Texas North Company.

Description: § 205(d) Rate Filing: TNC-Southwest Texas EC-Golden Spread EC IA Fourth Amend & Restated to be effective 3/1/2016.

Filed Date: 3/16/16.

Accession Number: 20160316-5144.

Comments Due: 5 p.m. ET 4/6/16.

Docket Numbers: ER16-1206-000.

Applicants: Northern States Power Company, a Wisconsin corporation, Northern States Power Company, a Minnesota corporation.

Description: § 205(d) Rate Filing: 20160316_IA_Annual to be effective 1/1/2016.

Filed Date: 3/16/16.

Accession Number: 20160316-5145.

Comments Due: 5 p.m. ET 4/6/16.

Docket Numbers: ER16-1207-000.

Applicants: Michigan Electric Transmission Company, LLC.

Description: § 205(d) Rate Filing: Filing of Third Amended and Restated Service Agreement to be effective 6/1/2016.

Filed Date: 3/16/16.

Accession Number: 20160316-5149.

Comments Due: 5 p.m. ET 4/6/16.

Docket Numbers: ER16-1208-000.

Applicants: Idaho Power Company.

Description: § 205(d) Rate Filing: Attachment K Version Correction to be effective 1/1/2016.

Filed Date: 3/16/16.

Accession Number: 20160316-5151.

Comments Due: 5 p.m. ET 4/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2016.
Nathaniel J. Davis, Sr.,
Deputy Secretary.

[FR Doc. 2016-06369 Filed 3-21-16; 8:45 am]

BILLING CODE 6717-01-P